DEPARTMENT OF DEFENSE

Office of the Secretary

Defense Innovation Board; Notice of Federal Advisory Committee Meeting

AGENCY: Office of the Deputy Chief Management Officer, Department of Defense (DoD).

ACTION: Notice of Federal Advisory Committee meeting.

SUMMARY: The DoD is publishing this notice to announce the following Federal advisory committee meeting of the Defense Innovation Board (“the Board”). This meeting is partially closed to the public.

DATES: The public meeting of the Board will be held on Wednesday, October 5, 2016. The open portion of the meeting will begin at 9:30 a.m. and end at 11:30 a.m. (Escort required; see guidance in the SUPPLEMENTARY INFORMATION section, “Public's Accessibility to the Meeting.”)

The closed portion of the meeting of the Board will be held from 12:30 p.m. to 4:30 p.m.

ADDRESSES: The open portion of the meeting will be held in the Pentagon Conference Center Room B6 in the Pentagon, Washington, DC (Escort required; See guidance in the SUPPLEMENTARY INFORMATION section, “Public's Accessibility to the Meeting.”)

The closed portion of the meeting will be held at various locations in the Pentagon.

FOR FURTHER INFORMATION CONTACT: The Board's Designated Federal Officer (DFO) is Roma Laster, Defense Innovation Board, 1155 Defense Pentagon, Room 5B1088A, Washington, DC 20301-1155, roma.k.laster.civ@mail.mil. The Board's Executive Director is Joshua Marcuse, Defense Innovation Board, 1155 Defense Pentagon, Room 3A1078, Washington, DC 20301-1155, joshua.j.marcuse.civ@mail.mil. For meeting information and to submit written comments or questions to the Board, send via email to mailbox address: joshua.j.marcuse.civ@mail.mil. Please include in the Subject line “DIB October 2016 Meeting.”

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140.

Purpose of the Meeting: The mission of the Board is to examine and provide the Secretary of Defense and the Deputy Secretary of Defense independent advice and recommendations on innovative means to address future challenges in terms of integrated change to organizational structure and processes, business and functional concepts, and technology applications. The Board focuses on (a) technology and capabilities, (b) practices and operations, and (c) people and culture.

Meeting Agenda: During the open portion of the meeting on Wednesday, October 5, 2016, the Board will present and discuss their observations and recommendations on how to expand and advance innovation across the Department of Defense. Time permitting, the Board will discuss and deliberate on interim findings and recommendations regarding the challenges of: (a) Promoting innovative practices and culture in the conventional forces; (b) barriers to innovation and collaboration in the civilian workforce; (c) barriers to information sharing and the processing, exploitation, dissemination, and interoperability of data; (d) enabling workforce-driven innovation using crowdsourcing methodologies and techniques; (e) the lack of adequate organic capability and capacity for software development and rapid prototyping of software solutions; (f) approaches to increasing collaboration with entities outside the federal government; (g) recommendations on how to improve the digital infrastructure that supports command and control; (h) streamlining of rapid fielding processes, particularly for unmanned systems; (i) the lack of a dedicated computer science core in the workforce; and (j) potential application of emerging technologies such as artificial intelligence, autonomy, and man-machine teaming.

During the closed portion of the meeting on Wednesday, October 5, 2016, the Board will hold discussions of innovation with senior leaders from the Office of the Secretary of Defense, the Office of Net Assessment, and the Office of the Secretary of the Army. Discussion topics will include, but are not limited to, strategic platforms and technological advancements, briefings on emerging threats, future military capabilities, and observations from research sessions involving classified material. All presentations and resulting discussions are classified.

Public's Accessibility to the Meeting: Pursuant to Federal statutes and regulations (5 U.S.C., Appendix, 5 U.S.C. 552b, and 41 CFR 102-3.140 through 102-3.165) and the availability of space, the meeting is open to the public from 9:30 a.m. to 11:30 a.m. Seating is on a first-come basis. Members of the public wishing to attend the meeting should contact the Executive Director to register and make arrangements for a Pentagon escort, if necessary, no later than five business days prior to the meeting, at the email address noted in the FOR FURTHER INFORMATION CONTACT section.

Public attendees requiring escort should arrive at the Pentagon Visitor's Center, located near the Pentagon Metro Station's south exit (the escalators to the left upon exiting through the turnstiles) and adjacent to the Pentagon Transit Center bus terminal, with sufficient time to complete security screening no later than 8:30 a.m. on October 5, 2016. Note: Pentagon tour groups enter through the Visitor's Center, so long lines could form well in advance. To complete security screening, please come prepared to present two forms of identification of which one must be a picture identification card. While some Government and military DoD Common Access Card holders are not required to have an escort, they may be required to pass through the Visitor's Center to gain access to the Pentagon.

Special Accommodations: Individuals requiring special accommodations to access the public meeting should contact the Executive Director at least five business days prior to the meeting so that appropriate arrangements can be made.

Pursuant to 5 U.S.C. 552b(c)(1), the DoD has determined that the portion of the meeting from 12:30 p.m. to 4:30 p.m. shall be closed to the public. The Assistant Deputy Chief Management Officer, in consultation with the Office of the DoD General Counsel, has determined in writing that this portion of the committee's meeting will be closed as the discussions will involve classified matters of national security. Such classified material is so inextricably intertwined with the unclassified material that it cannot reasonably be segregated into separate discussions without disclosing matters that are classified SECRET or higher.

Procedures for Providing Public Comments: Pursuant to section 10(a)(3) of the Federal Advisory Committee Act of 1972 and 41 CFR 102-3.140, the public or interested organizations may submit written comments to the Board about its approved agenda pertaining to this meeting or at any time regarding the Board's mission. Individuals submitting a written statement must submit their statement to the Executive Director at the address listed in the FOR FURTHER INFORMATION CONTACT section. Written statements that do not pertain to a scheduled meeting of the Board may be submitted at any time. However, if individual comments pertain to a specific topic being discussed at the planned meeting, then these statements must be received at least five business days prior to the meeting, otherwise, the comments may not be provided to or considered by the Board until a later date. The Executive Director will compile all timely submissions with the Board's Chair and ensure such submissions are provided to Board Members before the meeting.

Dated: September 15, 2016.
Aaron Siegel,
Alternate OSD Federal Register Liaison Officer, Department of Defense.

[FR Doc. 2016-22585 Filed 9-19-16; 8:45 am]

BILLING CODE 5001-06-P